DEPARTMENT OF AGRICULTURE

Animal and Plant Health Inspection Service

[Docket No. APHIS-2013-0044]

Environmental Impact Statement; Animal Carcass Management: Record of Decision

AGENCY: Animal and Plant Health Inspection Service, USDA.

ACTION: Notice.

SUMMARY: We are advising the public that the Animal and Plant Health Inspection Service has prepared a record of decision for the programmatic environmental impact statement titled “Carcass Management During a Mass Animal Health Emergency.”

DATES: Effective Date: March 24, 2016.

ADDRESSES: You may read the documents referenced in this notice and any comments we received in our reading room. The reading room is located in Room 1141 of the USDA South Building, 14th Street and Independence Avenue SW., Washington, DC. Normal reading room hours are 8 a.m. to 4:30 p.m., Monday through Friday, except holidays. To be sure someone is there to help you, please call (202) 799-7039 before coming. Those documents are also posted with the comments we received on the Regulations.gov Web site at http://www.regulations.gov/#!docketDetail;D=APHIS-2013-0044.

FOR FURTHER INFORMATION CONTACT: For questions related to the carcass management program, contact Ms. Lori P. Miller, PE, Senior Staff Officer, Science, Technology and Analysis Services, VS, APHIS, 4700 River Road, Unit 41, Riverdale, MD 20737; (301) 851-3512. For questions related to the programmatic environmental impact statement and record of decision, contact Ms. Samantha Floyd, Environmental Protection Specialist, Environmental and Risk Analysis Services, PPD, APHIS, 4700 River Road, Unit 149, Riverdale, MD 20737; (301) 851-3053.

SUPPLEMENTARY INFORMATION: On October 25, 2013, the Animal and Plant Health Inspection Service (APHIS) published in the Federal Register (78 FR 63959, Docket No. APHIS-2013-0044) a notice of intent to prepare a programmatic environmental impact statement (PEIS) for the purpose of analyzing the use of various carcass management options during a mass animal health emergency. On August 24, 2015, the Environmental Protection Agency (EPA) published in the Federal Register (80 FR 51256) a notice of the availability of the draft PEIS. The public comment period for the draft PEIS was 60 days. APHIS accepted comments on the draft PEIS during and after the comment period until November 3, 2015.

On December 11, 2015, APHIS published and distributed the final PEIS, which included responses to all comments received by November 3, 2015. On December 18, 2015, EPA published in the Federal Register (80 FR 79041) a notice of availability of the final PEIS.

The National Environmental Policy Act (NEPA) implementing regulations in 40 CFR 1506.10 require a minimum 30-day waiting period between the time a final EIS is published and the time an agency makes a decision on an action covered by the EIS. APHIS has reviewed the final PEIS and comments received during the 30-day waiting period and has concluded that the final PEIS fully analyzes the issues covered by the draft PEIS and addresses the comments and suggestions submitted by commenters. This notice advises the public that the waiting period has elapsed, and APHIS has issued a record of decision (ROD) to implement the preferred alternative described in the final PEIS.

The ROD has been prepared in accordance with: (1) NEPA, as amended (42 U.S.C. 4321 et seq.); (2) regulations of the Council on Environmental Quality for implementing the procedural provisions of NEPA (40 CFR parts 1500-1508); (3) USDA regulations implementing NEPA (7 CFR part 1b); and (4) APHIS' NEPA Implementing Procedures (7 CFR part 372).

Done in Washington, DC, this 17th day of March 2016.
Kevin Shea,
Administrator, Animal and Plant Health Inspection Service.

[FR Doc. 2016-06657 Filed 3-23-16; 8:45 am]

BILLING CODE 3410-34-P